ENVIRONMENTAL PROTECTION AGENCY

[ER-FRL-9056-3]

Environmental Impact Statements; Notice of Availability

Responsible Agency: Office of Federal Activities, General Information 202-564-5632 or https://www.epa.gov/nepa.

Weekly receipt of Environmental Impact Statements (EIS) Filed April 19, 2021 10 a.m. EST Through April 26, 2021 10 a.m. EST Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210043, Final, FRA, OR, Oregon Passenger Rail Tier 1 Final Environmental Impact Statement/Combined Record of Decision for the Oregon Portion of the Pacific Northwest Rail Corridor (Portland to Eugene), Contact: Lydia Kachadoorian 781-227-0778. Under 23 U.S.C. 139(n)(2), FRA has issued a single document that consists of a final environmental impact statement and record of decision. Therefore, the 30-day wait/review period under NEPA does not apply to this action

EIS No. 20210044, Draft, USN, MD, Testing and Training Activities in the Patuxent River Complex, Comment Period Ends: 06/15/2021, Contact: Crystal Ridgell 301-757-5282.

EIS No. 20210045, Draft, USFWS, OR, Draft Bighorn Sheep Management Plan Environmental Impact Statement, Comment Period Ends: 06/14/2021, Contact: Shannon Ludwig 541-947-3315.

EIS No. 20210046, Final, USACE, CA, Phase 3 Reclamation District 17 Levee Seepage Repair Project, Review Period Ends: 06/01/2021, Contact: Tanis Toland 916-557-6717.

Dated: April 27, 2021.
Cindy S. Barger,
Director, NEPA Compliance Division, Office of Federal Activities.

[FR Doc. 2021-09062 Filed 4-29-21; 8:45 am]

BILLING CODE 6560-50-P